FEDERAL COMMUNICATIONS COMMISSION

Public Information Collection(s) Approved by Office of Management and Budget

September 1, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

DATES: Revision of a currently approved collection, effective on September 1, 2006.

FOR FURTHER INFORMATION CONTACT: Nicole R. On'gele, Federal Communications Commission, 445 12th Street, SW., Washington, DC 20554 (202) 418-2991 or via the Internet at nicole.ongele@fcc.gov.

SUPPLEMENTARY INFORMATION: OMB Control No.: 3060-0690.

OMB Approval Date: September 1, 2006.

Expiration Date: September 30, 2009.

Title: Section 101.17, Performance Requirements for the 38.6-40.0 GHz Frequency Band—(Note Title Change).

Form No.: N/A.

Estimated Annual Burden: 195 responses; 390 total annual burden hours; $52,000.

Needs and Uses: The Commission is revising this information collection because we have eliminated FCC Forms 415/415T from this collection because the reporting requirements have been incorporated into FCC Form 601 (OMB Control No. 3060-0798). We also removed Section 101.103 from this collection because it is approved under a separate OMB Control Number 3060-0718. The only remaining rule in this collection is Section 101.17, which requires licensees on frequencies in the 38.6-40.0 GHz band to demonstrate substantial performance when their license terms expire, in order to renew their licenses.

All 38.6-40.0 GHz band licensees must demonstrate substantial service at the time of license renewal. A licensee's substantial service showing should include, but not be limited to, the following information for each channel for which they hold a license, in each EA or portion of EA covered by their license, in order to qualify for renewal of that license. The information provided will be judged by the Commission to determine whether the licensee is providing service that rises to the level of “substantial”: (1) A description of the 38.6-40.0 GHz band licensee's current service in terms of geographic coverage; (2) a description of the 38.6-40.0 GHz band licensee's current service in terms of population served, as well as any additional service provided during the license term; and (3) a description of the 38.6-40.0 GHz band licensee's investments in its system(s) (type of facilities constructed and their operational status is required). Any 38.6-40.0 GHz band licensees adjudged not to be providing substantial service will not have their licenses renewed.

Federal Communications Commission.
Marlene H. Dortch,
Secretary.

[FR Doc. E6-16219 Filed 10-3-06; 8:45 am]

BILLING CODE 6712-01-P